ENVIRONMENTAL PROTECTION AGENCY

[EPA-HQ-OPP-2009-0486; FRL-8427-4]

Cancellation of Pesticides for Non-Payment of Year 2009 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15 has gone unpaid for 370 registrations. Section 4(i)(5)(G) of FIFRA provides that the Administrator may cancel these registrations by order and without a hearing; orders to cancel all 370 of these registrations have been issued within the past few days.

DATES: These cancellations are effective on the date the cancellation order was signed.

FOR FURTHER INFORMATION CONTACT: John Jamula, Information Technology and Resources Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does This Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of This Document and Other Related Information?

1. Docket. EPA has established a docket for this action under docket identification (ID) number EPA-HQ-OPP-2009-0486. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Introduction

Section 4(i)(5) of FIFRA as amended in October 1988 (Public Law 100-532), December 1991 (Public Law 102-237), and again in August 1996 (Public Law 104-170), requires that all pesticide registrants pay an annual registration maintenance fee, due by January 15 of each year, to keep their registrations in effect. This requirement applies to all registrations granted under section 3 as well as those granted under section 24(c) to meet special local needs. Registrations for which the fee is not paid are subject to cancellation by order and without a hearing.

The Food, Agriculture, Conservation, and Trade Act Amendments of 1991, Public Law 102-237, amended FIFRA to allow the Administrator to reduce or waive maintenance fees for minor agricultural use pesticides when she determines that the fee would be likely to cause significant impact on the availability of the pesticide for the use. The Agency has waived the fee for 194 minor agricultural use registrations at the request of the registrants.

In fiscal year 2009, maintenance fees were collected in one billing cycle. The Pesticide Registration Improvement Renewal Act (PRIRA) was passed by Congress in October 2007. PRIRA authorized the Agency to collect $22 million in maintenance fees in fiscal year 2009. In late November 2008, all holders of either section 3 registrations or section 24(c) registrations were sent lists of their active registrations, along with forms and instructions for responding. They were asked to identify which of their registrations they wished to maintain in effect, and to calculate and remit the appropriate maintenance fees. Most responses were received by the statutory deadline of January 15. A notice of intent to cancel was sent in mid-February to companies who did not respond and to companies who responded, but paid for less than all of their registrations. Since mailing the notices, EPA has maintained a toll-free inquiry number through which the questions of affected registrants have been answered.

Maintenance fees have been paid for about 16,170 section 3 registrations, or about 95 percent of the registrations on file in December. Fees have been paid for about 2,146 section 24(c) registrations, or about 84 percent of the total on file in December. Cancellations for non-payment of the maintenance fee affect about 341 section 3 registrations and about 29 section 24(c) registrations.

The cancellation orders generally permit registrants to continue to sell and distribute existing stocks of the canceled products until January 15, 2010, one year after the date on which the fee was due. Existing stocks already in the hands of dealers or users, however, can generally be distributed, sold or used legally until they are exhausted. Existing stocks are defined as those stocks of a registered pesticide product which are currently in the United States and which have been packaged, labeled and released for shipment prior to the effective date of the action.

The exceptions to these general rules are cases where more stringent restrictions on sale, distribution, or use of the products have already been imposed, through Special Reviews or other Agency actions. These general provisions for disposition of stocks should serve in most cases to cushion the impact of these cancellations while the market adjusts.

III. Listing of Registrations Canceled for Non-Payment

Table 1 lists all of the section 24(c) registrations, and Table 2 lists all of the section 3 registrations which were canceled for non-payment of the 2009 maintenance fee. These registrations have been canceled by order and without hearing. Cancellation orders were sent to affected registrants via certified mail in the past several days. The Agency is unlikely to rescind cancellation of any particular registration unless the cancellation resulted from Agency error.

Table 1.—Section 24(c) Registrations Canceled for Non-Payment of 2009 Maintenance Fee
SLN No. | Product name
055431 AZ-05-0008 | Silencer T/C Termiticide/insecticide
055431 AZ-06-0007 | Times-Up T/C
053575 AZ-08-0007 | PB-Rope L
036029 CA-03-0007 | Gopher Getter Type 2 Bait By Wilco
060199 CA-08-0001 | Amine 4 2,4-D Weed Killer
053575 CA-08-0004 | PB-Rope L
059623 CA-76-0155 | Clorox
063223 CA-94-0030 | Ethylene Agricultural Grade
072500 CO-06-0010 | Kaput-D Prairie Dog Bait
053257 FL-88-0028 | Sodium Hypochlorite 10.5% By Weight
061667 HI-03-0006 | Ag Sanitizer 12.5%
072500 KS-07-0002 | Kaput-D Prairie Dog Bait
080289 LA-07-0006 | Domark 230ME Fungicide
045728 MA-93-0002 | Ferbam Granuflo
070829 MS-05-0005 | Clearout 41 Special
070829 MS-06-0007 | Gly Star Plus
073220 MS-06-0015 | Quali-Pro Chlorpyrifos 4E
072500 NE-07-0002 | Kaput-D Prairie Dog Bait
045728 NJ-99-0001 | Carbamate WDG Fungicide
072315 NY-07-0006 | Sodium Hypochlorite 12.5
075338 NY-08-0012 | Cft Legumine Fish Toxicant
055431 OR-06-0004 | Times-Up T/C
060217 OR-85-0023 | Griffin Direx 4l Herbicide
072500 TX-07-0004 | Kaput-D Prairie Dog Bait
055431 TX-07-0010 | Times-Up T/C
072500 TX-07-0015 | Kaput-D Prairie Dog Bait
000550 UT-01-0003 | Masterline Kontrol 30-30 Concentrate for Mosquitoes, Flies and Gnats
072500 WY-07-0007 | Kaput-D Pocket Gopher Bait (prairie Dog Bait
081417 WY-08-0003 | Dupont Asana XL Insecticide

Table 2.—Section 3 Registrations Canceled for Non-payment of 2009 Maintenance Fee
Registration no. | Product Name
000149-00014 | Sl-3
000150-00061 | An-Tec 110
000192-00118 | Dexol Lawn Weed Killer
000491-00166 | Selig's Lem-O-Dis
000491-00231 | STX 100 Disinfectant Cleaner
000491-00253 | Selcol III
000491-00257 | Selig's Pin-A-Quat
000506-00174 | Tat Ant Trap X
000506-00175 | Tat Roach Bait V
000527-00093 | F-25
000527-00116 | Byquat
000527-00123 | F-48
000690-00044 | Perkerson's Tri-Chlor Weed Killer
000690-00048 | Perkerson's Tri-Ate Weed Killer
000769-00558 | Suregard Lime Sulphur Solution 32 BE
000769-00698 | SMCP Standard 2,4-D Amine
000769-00852 | Pratt Bordo-Mix
000833-00075 | Afco 4335 Lf Tops Acid Sanitizer
001001-00073 | Ecologix Cockroach Bait
001001-00074 | Xanthine and Oxypurinol Manufacturing Use Concentrate
001020-00013 | Oakite Detergent-Sanitizer
001124-00045 | Dutch Spray and Wipe Disinfectant Cleaner
001124-00069 | Blu-Lite Germicidal Hospital Type Acid Cleaner
001317-00024 | Sterl-Aid Sanitz
001317-00087 | Iodu #2
001475-00158 | Willert Toilet Tablets
001719-00039 | BLP Cop-R-Tox 202 Water Reducible Wood Preservative
001769-00218 | D-Algae
001769-00264 | Double Quick
001769-00372 | Unit Dose Dust
001842-00284 | Triangle 455 Soluble Oil
001910-00001 | Legear Mange Treatment
001965-00011 | Vancide 89
001965-00088 | Vancide* Z-Mp
002021-00031 | Chlorine Sanitizer Bleach
002630-00013 | Ocean Spray Insecticide
002915-00040 | Insect Repellent Gel
002915-00055 | Fullsan
002915-00066 | Spray 'n San II
003090-00123 | Sanitized Brand Rb-475 Bacteriostat
003240-00017 | Motomco Water Soluble Diphacinone Rodenticide Concentrate Kills Rats
003240-00028 | Rampage Mouse Seed
003240-00042 | Rampage Rat & Mouse Bait
003377-00053 | Sanibrom 101
003377-00054 | Sanibrom 202 Algicide
003377-00076 | Sanibrom S 50 Algicide
003377-00077 | Clear Out
004170-00017 | Betco Lemon
004170-00038 | Glybet
004170-00041 | Cide-Bet
005011-00128 | Formula F-500
005887-00051 | Black Leaf Warf Pellets
005887-00098 | Black Leaf Warf Pellets Mouse Killer
006148-00012 | Coppertone Bug and Sun
006186-00052 | “0007” Vegetation Killer
006959-00081 | Cessco Accudose Instant Fire Ant Control
006959-00098 | DDVP 20% Aerosol
007116-20003 | Bonus
007173-00206 | Generation Pellets Placepacks
007173-00213 | Maki Pellets Placepacks
007173-00221 | Maki Pellets Bait Packs
007173-00241 | Generation Blue Pellets Place Packs
007173-00246 | Generation Round Blocks
007173-00250 | Maki Bait Station II
007173-00251 | Rozol Paraffin Block
007173-00252 | Rozol Pellets Place Packs
007173-00256 | Metarex 2% Snail and Slug Bait
007537-00002 | Hobby's Ready To Use Rat and Mouse Bait
007546-00004 | O-San
007643-00006 | Nu Way Bleach
007701-00034 | Lanscaper Weed Killer & Prepaving Preparation
007946-00024 | Tebuject
007946-00029 | Dutrex
008155-00018 | No. 800 Husky Germicidal Cleaner.
008155-00020 | Husky 415
008540-00008 | Formula 32
008616-00012 | Dual Chlor
008730-00056 | Hercon Japanese Beetle Food Lure
008730-00069 | Hercon Disrupt Micro-Flake LR
008730-00070 | Hercon Disrupt III GM
008781-00009 | Metz Dairy Sanitizer
009086-00007 | Revenge Ant Killer Liquid Bait
009152-00023 | CC-20
009386-00018 | AMA-3515
009591-00164 | Flea Killer for Carpets
009591-00170 | Prokill Choice Insecticide
010031-00006 | Petersen's Pocket Gopher Bait
010466-00041 | Thomson Research Disinfecting Wipes
010679-00010 | Sodium Hypochlorite 12.5%
010807-00098 | Enviro-40 Detergent/disinfectant
010807-00113 | Enviro 125
011220-00006 | Tri-Pan 76/24 Preplant Soil Fumigant
011220-00016 | Tri-Brom
011515-00037 | Deluxe Wintergreen Deodorizer Fungicide Cleaner Disinfectant
011623-00039 | Ant & Roach II Residual Spray
011656-00099 | First Choice Milsana Bioprotectant
015300-00002 | Chemical Treatment CL-2152
017975-00001 | Dean's Meat Base Rat and Mouse Bait
021346-00002 | M-1 Additive
033560-00021 | Pronone 10g
033906-00014 | NC-129 60WP
033906-00015 | NC-129 75WP
034810-00019 | Topps
034810-00022 | Ready To Use Topps
034810-00029 | Dri-Cide-256
035900-00009 | General Ionics Model IQ 1240B Bacteriostatic Water Conditioner
035900-00018 | General Ionics Model 200,000 Bacteriostatic House Water Filter
035900-00019 | General Ionics Model IQ 1030B Bacteriostatic Water Conditioner
036404-00001 | Nissin Niclon-70-Granular
036404-00002 | Calcium Hypochlorite Granular “star-Chlon”
037265-00010 | Myra-Cyn
037265-00037 | Strike Bac Step One Disinfectant
037265-00040 | 10% Quat Rinse
037265-00043 | Strike Bac Spearmint Odor Disinfectant
037731-20001 | Sun-Clor
037733-00005 | Reddick Bro-Mean C-2r
037733-00006 | Reddick Bro-Mean C-33
037733-00007 | Reddick Bro-Mean C-O
039104-00001 | Aquacell Bacteriostatic Water Treatment Unit
040510-00001 | Disinfectant, Food Service
042177-00044 | Olympic Algaezone Plus
042177-00075 | Regal Brom-A-Gard Tablets 1 for Spas and Hot Tubs
042177-00076 | Regal Silver Algaecide
042177-00078 | Ez-Clor Lithium Hypochloride
042177-00079 | Super Shockwave Shock Treatment for Swimming Pools
042519-00005 | Cacodylate 3.1
042519-00006 | Dry DSMA
042519-00007 | DSMA 81 P
042519-00009 | Herb-All
042519-00011 | 2.48 Cacodylate
042519-00012 | Magma
042519-00015 | DSMA 4 AQ
042519-00016 | Dsma 3.6 Aq Plus
043410-00009 | Tomato Glo No. 21
044392-00002 | MBC-130
044392-00011 | MBC 415
044751-00001 | NSA Bacteriostatic Water Treatment Unit, Model 50C
044751-00003 | NSA Bacteriostatic Water Treatment Unit Model 25I
044751-00004 | NSA Bacteriostatic Water Treatment Unit, Model 300H
044751-00005 | Mini-Silverator Portable Water Treatment Unit
044751-00007 | Mini-Silverator Water Treatment Media
045655-20001 | High-Po-Chlor
046183-00001 | Sani-Way 6
046276-00001 | Quat Shield
046276-00002 | Germiquat
046781-00007 | Kleenaseptic
046813-00010 | C.C.L. House and Garden Insect Killer I
046813-00039 | CCL Crawling Insect Killer IX
046813-00064 | CCL Multi-Purpose Insecticide Spray
046813-00066 | CCL Multi-Purpose Insecticide II
046813-00067 | Multi-Purpose Insecticide III
046813-00070 | K-G Crack & Crevice Spray
048482-00005 | Sanuril 115
049517-00001 | Mapco Brand Poly-Foliant Liquid Defoliant
049517-00003 | Moore Ag Brand Poly-Foliant V Defoliant-Desiccant
049547-00008 | Alen 6% Sodium Hypochlorite Bleach Sanitizer
049547-00011 | Cloralex Bathroom
049547-20004 | Alen Sodium Hypochlorite Bleach Sanitizer
053257-20001 | Sodium Hypochlorite Solution 12.5%
053257-20002 | Sodium Hypochlorite 10% By Weight
053257-20003 | Sodium Hypochlorite 9.2% By Weight
053356-00003 | D-Bug-100
053871-00002 | Stirrup-M
055272-00008 | Micro Flo Co. Basic Copper 53
055272-00009 | Microsperse 50 WP
055272-00010 | Microsperse Coc 53 WP
055272-00011 | Nu-Cop 40DF
055272-00012 | COC 40 WDG
055431-00006 | Silencer T/C
055431-00007 | Double O Six ME Insecticide/miticide
055431-00008 | Dead on Target 0.2% Bifenthrin Granules
055431-00009 | Bombadir Lawn and Nursery Insecticide/miticide
055431-00010 | A-1 Lawn & Greenhouse Insecticide
057101-00001 | Chlorine Liquified Gas Under Pressure
057227-00008 | Britewood Select Sapstain Control
057242-00004 | Gladeamine 3.8 2,4-D Herbicide
058266-00003 | Methyl Bromide 99.5%
062575-00003 | Biesterfeld Malathion 25
062575-00004 | Biesterfeld Malathion 5D
062575-00007 | Biesterfeld Malathion E.C.
063898-00001 | Ryh-86NA
064014-00007 | Tree Tech Brand Aliette Injectable
064328-00001 | Advance-LF
065458-00001 | B.W.A.C.T.
065458-00007 | Plato Industries Combo Lure 25/90
065789-00001 | Melocide DE-100
065789-00002 | Melocide DE-200
066306-00010 | Safari Insect Repellent (spray)
066306-00015 | Insect Repellent Sunscreen II
066426-00001 | Chem Bleach
066426-00002 | Chem Bleach Ultra
066465-00002 | PMT-100
067425-00020 | Ecopco EC
068292-00003 | Stretch Fungicide
068527-00001 | Echocide Ultrasonic Immersion Additive
068679-00001 | Perma-Hull Ultimate
068814-00001 | Super Plant Growth Hormone Spray
070227-00006 | Mycostat-P2
070246-00001 | Ct-100
070303-00001 | Alga Strike
070310-00001 | Agroneem
070387-00001 | Nimbecidine
070467-00003 | Biosurf
070799-00009 | State Fix “terg-O-Cide In A Can”
070810-00001 | Auxigro Wp Plant Metabolic Primer
071065-00001 | Companion
071096-00008 | Snail & Slug Pellets
071096-00012 | Lilly/miller Go West Slug Killer
071992-00004 | Cunap-2W
071992-00005 | Cu Nap-1W
072112-00012 | Prokoz 015
072112-00013 | Prokoz 016
072315-00005 | Sodium Hypochlorite 11
072468-00003 | Moldwash Wood Preservative/mold Control
072468-00005 | Moldwash Pre-Moistened Wipes
072874-00004 | Surfguard
072897-00003 | Triosyn T50-I Filter
072897-00004 | T2 Disinfectant Spray
072947-00002 | Viodate 10% Cattle Premix
072947-00003 | Viodat CP-10
072994-00001 | Silgard Technical
072994-00002 | Silgard
073158-00001 | Iogold Tm Recharge
073335-00001 | Smolder G
073335-00002 | Smolder WP
073510-00002 | Marketquest One Drop Flea & Tick Control
073876-00001 | Fite Bite Permanone Clothing & Gear Insect Repellent
074234-00001 | Lmp-102
074322-00007 | Hyspray PXT MUP
074322-00008 | Hyspray P35 MUP
074655-00018 | Spectrum RX7816
074787-00001 | Proteku Grape Guard
074981-00001 | Storshield ZB 2335
075108-00002 | California Red Scale Technical Pheromone
075340-00002 | Tie-Gard
075341-00009 | Mitc-Fume
075757-00001 | SC-40
075799-00001 | Verigard Technical
075848-00001 | Ameri-Klean Whirlpool Pedicurespa One-Step Disinfectant
079442-00001 | Exosex-CM
079442-00002 | Exosex-TPW
079442-00003 | Exosex-OFM
079556-00001 | Disodium Octaborate Tetrahydrate
080434-00001 | Healthy Solutions 6000
081952-00001 | Weed Spray No. 1 Concentrate
081952-00002 | Weed Spray No. 1 Ready-To-Use
082075-00001 | Ps Disinfecting Surface Wipe(s)
082432-00001 | D-Limonene Technical 95%
082653-00001 | AMG-X40
082757-00004 | Growstar Atrazine 0.45% Plus Fertilizer
082757-00005 | Growstar .20% Imidacloprid Plus Turf Fertilizer
082803-00002 | Lastcall Cm
082874-00001 | LM 1000 AF
082958-00001 | E-Z Seal Plus
082971-00001 | Bluewater
083028-00007 | Happy Gro
083103-00004 | Hdh Sopp 435
083222-00017 | Ethephon Ag 6
083223-00001 | Napropamide 80 MUP
083223-00002 | Regatta 80WP Agricultural Herbicide
083223-00003 | Regatta 80WP Ornamental Herbicide
083223-00004 | Regatta 75WG Agricultural Herbicide
083223-00005 | Regatta 75WG Ornamental Herbicide
083223-00006 | Regatta 2G Ornamental Herbicide
083223-00007 | Regatta Ornamental Herbicide
083223-00008 | Regatta 10G Herbicide
083248-00001 | Term-A-Rid 613 Woodstakes
083298-00001 | Term-A-Rid 613 Borate Treated Wood Chips
083303-00001 | Jymrsa Part A
083303-00002 | Jymrsa Part B
083451-00006 | Cwt-100m Algicide
083610-00001 | Pell-Chlor Drinking Water Disinfecting Tablets
083778-00001 | Interceptor
083884-00009 | Invasan Dp 300R
083884-00010 | Invasan DP 300 TEX
083893-00004 | Greenleaf Lawn & Garden Insect Control (.25% Permethrin)
083893-00005 | Greenleaf Lawn & Soil Insect Killert
083893-00006 | Greenleaf Fire Ant Killer & Preventer Bait
083893-00007 | Greenleaf Fast Kill Fire Ant Mound Destrover
083893-00008 | Greenleaf St. Augustine Lawn Weed & Feed
083893-00011 | Greenleaf Lawn Insect Control (bifenthrin .115%
083893-00013 | Greenleaf Lawn Fungus Control
083893-00017 | Greenleaf Lawn Fertilizer with Summer Insect Protection
083893-00018 | Greenleaf Grub Killer Max
083893-00021 | Greenleaf Lawn Insect Killer (.1% Deltamethrin)
083893-00022 | Greenleaf Fertilizer with Insect Control
083893-00023 | Greenleaf Lawn Fertilizer with Crabgrass Preventer
083893-00024 | Greenleaf Lawn Fertilizer with Crabgrass Protection
083893-00025 | Greenleaf Lawn Fertilizer with Moss Control
083921-00001 | Pro Shock
083921-00002 | Pro Tabs
083994-00001 | Tabard Mosquito and Insect Repellent
084177-00001 | Banana Gas 32
084396-00001 | M7 Roach Killer Mop-On Insecticide
084396-00002 | M5 Boraplus Roach Kill
084396-00003 | Weed-Go Non-Select Weed and Grass Killer
084396-00004 | Sunbugger #6 Spray Concentrate
084396-00005 | Algae-Gon
084396-00006 | No-Crab Crabgrass Killer
084396-00007 | Select-Kil High Concentrate
084396-00009 | Over Grass & Weed Killer
084396-00010 | Purge Water Treatment Microbiocide
084396-00011 | Algon Algaecide
084396-00013 | Super Numb Bug
084396-00014 | Weed Out Non Select Weed Killer
084396-00015 | Sungro Treat-Turf Herbicide
084396-00016 | Sunbugger Water Base Insecticide Spray
084396-00017 | Sungro Kitchen and Can Insecticide
084396-00018 | Sunbugger III
084396-00019 | Sunbugger 100 Pyrethrum
084396-00020 | Sunbugger Super Fog Food Plant Fogging Insecticide
084396-00021 | Sungro Pyreth
084396-00022 | Sungro #214 Water-Base Multi-Purpose Insecticide
084396-00023 | Sungro Flea-Zy Pet Shampoo
084396-00024 | Sunbugger 1-10 Concentrate
084396-00025 | Sun-Dust Roach Away
084396-00026 | Sungro Permith with Permanone
084396-00027 | Sunbugger 8
084396-00029 | Perm II
084396-00031 | Sungro Water Base Food Plant Fogging Insecticide
084396-00032 | Weed-Go II
084396-00033 | Ever-Sect III Insecticide Concentrate
084396-00034 | Ever-Sect Ornamental and Garden Vegetable Insecticide Spray
084396-00035 | Sungro Spray & Dip
084396-00036 | Kleen-Weed
084396-00037 | Sunbugger 1-5 Insecticide Concentrate
084396-00038 | Sunbugger Carpet Dust
084396-00039 | Sunbugger Residual Ant & Roach Spray Aqueous II
084396-00040 | Sunbugger Flea & Mite Spray
084396-00041 | Tomic-Malathion Malathion-Pyrenone Residual Spray
084396-00042 | Roach-It
084489-00001 | Boric Acid TFG
084804-00001 | Verox-QA7575
084804-00002 | Verox-3t
084804-00003 | Verox-25
084804-00004 | Verox-5HM
084804-00005 | Verox-8
084804-00006 | Verox-CD40
084804-00007 | Verox-12.5
084804-00008 | Verox-TS31
084804-00009 | Verox-QA2525

IV. Provisions for Disposition of Existing Stocks

The effective date of cancellation will be the date of the cancellation order. The orders effecting these requested cancellations will generally permit a registrant to sell or distribute existing stocks until January 15, 2010, one year after the date on which the fee was due.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

V. Public Docket

Complete lists of registrations canceled for non-payment of the maintenance fee will also be available for reference during normal business hours in the OPP Public Docket, Rm. S-4400, One Potomac Yard (South Building), 2777 S. Crystal Drive, Arlington, VA. Product-specific status inquiries may be made by telephone by calling toll-free 1-800-444-7255.

List of Subjects

Environmental protection, Pesticides and pests.

Dated: July 13, 2009.
Martha Monell,
Acting Director, Office of Pesticide Programs.

[FR Doc. E9-17725 Filed 7-23-09; 8:45 am]

BILLING CODE 6560-50-S